DEPARTMENT OF COMMERCE

Office of the Secretary

Performance Review Board; Membership

The following individuals are eligible to serve on the Performance Review Board in accordance with the Senior Executive Service Performance Appraisal System of the Office of the Secretary.

Kathleen J. Taylor

Travis G. Thomas

John J. Phelan, III

Linda Moye-Cheatham

Michael E. Meece

Thomas N. Pyke, Jr.

James L. Taylor

Miriam Cohen

Joan Jorgenson,
Executive Secretary, Office of the Secretary, Performance Review Board.

[FR Doc. 01-27886 Filed 11-6-01; 8:45 am]

BILLING CODE 3510-55-M